DEPARTMENT OF ENERGY

Federal Energy Regulatory Commission

[Docket No. AD24-7-000]

Federal and State Current Issues Collaborative; Notice Inviting Post-Meeting Comments

On November 12, 2024, the Federal and State Current Issues Collaborative convened for a public meeting.

All interested persons are invited to file post-meeting comments to address issues raised during the meeting. Comments must be submitted on or before 30 days from the date of this Notice.

Comments may be filed electronically via the internet.¹ Instructions are available on the Commission's website https://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, Maryland 20852.

¹ See 18 CFR 385.2001(a)(1)(iii) (2021).

For more information about this Notice, please contact: Cecelia Coffey (Legal Information), Office of the General Counsel, (202) 502-8040, Cecelia.Coffey@Ferc.Gov.

Dated: December 4, 2024.
Carlos D. Clay,
Acting Deputy Secretary.

[FR Doc. 2024-28965 Filed 12-9-24; 8:45 am]

BILLING CODE 6717-01-P